SMALL BUSINESS ADMINISTRATION

Revocation of License of Small Business Investment Company

Pursuant to the authority granted to the United States Small Business Administration by the Final Order of the United States District Court for the Central District of California, entered October 28, 1999, the United States Small Business Administration hereby revokes the license of RSC Financial Corporation, a California corporation, to function as a small business investment company under the Small Business Investment Company License No. 09/09-5161 issued to RSC Financial Corporation on September 28, 1972 (Reissued November 17, 1983) and said license is hereby declared null and void as of January 21, 2000.

Dated: January 21, 2000.
Small Business Administration.
Don A. Christensen,
Associate Administrator for Investment.

[FR Doc. 00-3581 Filed 2-16-00; 8:45 am]

BILLING CODE 8025-01-M